DEPARTMENT OF TRANSPORTATION

Federal Aviation Administration

[Summary Notice No. PE-2000-43]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 2, 2000.

ADDRESSES: Send comments on any petition in triplicate to: Federal Aviation Administration, Office of the Chief Counsel, Attn: Rule Docket (AGC-200), Petition Docket No. _____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on September 5, 2000.
Joseph A. Conte,
Acting, Assistant Chief Counsel for Regulations.

Dispositions of Petitions

Docket No.: 30011

Petitioner: Ameriflight, Inc.

Section of the FAR Affected: 14 CFR 135.243(c)(2)

Description of Relief Sought/Disposition: To permit its pilots in command (PICs) of single-engine piston-powered airplanes to operate under instrument flight rules (IFR) with a minimum of 800 hours of flight time, including 400 hours of cross-country flight time and 75 hours of night flight time; and (2) allow its PICs of multi-engine piston-powered airplanes with maximum takeoff weights not greater than 8,000 pounds to operate under IFR with a minimum of 1,000 hours of flight time.

Denial, 08/18/00, Exemption No. 7321

Docket No.: 29934

Petitioner: Rotorcraft Leasing Company, L.L.C.

Section of the FAR Affected: 14 CFR 136.152(a)

Description of Relief Sought/Disposition: To permit RLC to operate a mixed fleet of Bell 212 and 412 helicopters without those helicopters being equipped with an approved digital flight data recorder.

Grant, 08/18/00, Exemption No. 7320

Docket No.: 30156

Petitioner: Continental Express Airlines, Inc.

Section of the FAR Affected: 14 CFR 121.344(e)

Description of Relief Sought/Disposition: To permit CEA to operate ten newly manufactured EMB-145/135 airplanes that are delivered to Continental after August 18, 2000, and prior to January 31, 2001, without those airplanes being able to record data.

Grant, 08/21/00, Exemption No. 7323

Docket No.: 30158

Petitioner: Mesa Airlines, Inc.

Section of the FAR Affected: 14 CFR 121.344(e)

Description of Relief Sought/Disposition: To permit MA to operate five newly manufactured EMB-145-LR airplanes that are delivered to Mesa after August 18, 2000, and prior to January 31, 2001, without those airplanes being able to record data.

Grant, 08/21/00, Exemption No. 7324

Docket No.: 30152

Petitioner: American Eagle Airlines, Inc.

Section of the FAR Affected: 14 CFR 121.344(e)

Description of Relief Sought/Disposition: To permit AME to operate ten newly manufactured EMB-135 airplanes that are delivered to AME after August 18, 2000, and prior to January 31, 2001, without those airplanes being able to record data.

Grant, 08/18/00, Exemption No. 7319

Docket No.: 29986

Petitioner: Lifeport, Inc.

Section of the FAR Affected: 14 CFR 25.562 and 25.785(b)

Description of Relief Sought/Disposition: To permit certification of medical stretchers for transport of persons whose medical condition dictates such accommodation. The exemption is for an installation on a Cessna Model 560XL airplane.

Grant, 08/16/00, Exemption No. 7318

Docket No.: 28257

Petitioner: Flight Structures, Inc.

Section of the FAR Affected: 14 CFR 25.785(d), 25.813(b), 25.857(e), and 25.1447(c)(1) & (c)(3)(ii)

Description of Relief Sought/Disposition: To permit supplemental type certification of Airbus Model A300-B4-100 series and -200 series passenger-to-freighter airplane conversions, with provisions for the carriage of up to six persons other than flight crewmembers when the airplane is equipped with two floor-level exits with escape slides, within the occupied main deck area.

Grant, 08/15/00, Exemption No. 6178B

Docket No.: 30023

Petitioner: Lufthansa Technik

Section of the FAR Affected: 14 CFR 25.562, 25.785(gb), 25.785(h)(2), 25.785(j), 25.813(e), and 25.853(d)

Description of Relief Sought/Disposition: To permit the installation of a medical berth that does not meet the dynamic seat requirements, flight attendant seats that do not provide direct view of the cabin, a “state room” that does not provide firm “handholds” in the aisle, to allow the installation of interior doors between passenger compartments, and to install interior materials that do not comply with heat release and smoke emissions requirements for Boeing Model 777-2AN airplane serial number 29953.

Grant, 08/15/00, Exemption No. 7317

Docket No.: CE160

Petitioner: Ayres Corporation

Section of the FAR Affected: 14 CFR 23.3

Description of Relief Sought/Disposition: To permit Ayres Corporation to certificate the Model LM200 “Loadmaster,” as a 19,000-pound maximum gross weight commuter category airplane with a novel and unique twin engine, single propeller propulsion system and limit seating to a maximum of 9 passengers.

Grant, 08/07/00, Exemption No. 7306

[FR Doc. 00-23183 Filed 9-8-00; 8:45 am]

BILLING CODE 4910-13-M